DEPARTMENT OF LABOR

Employment and Training Administration

[TA-W-53,266]

West Coast Fashion, Inc., South El Monte, CA; Notice of Termination of Investigation

Pursuant to section 221 of the Trade Act of 1974, an investigation was initiated on October 16, 2003, in response to a petition filed by the TAA Division Coordinator Employment Development Department on behalf of workers at West Coast Fashion, Inc., South El Monte, California.

The petitioner has requested that the petition be withdrawn. Consequently, the investigation has been terminated.

Signed in Washington, DC, this 18th day of November, 2003.
Richard Church,
Certifying Officer, Division of Trade Adjustment Assistance.

[FR Doc. 03-29668 Filed 11-26-03; 8:45 am]

BILLING CODE 4510-30-P